DEPARTMENT OF ENERGY

Federal Energy Regulatory Commission

[Project No. 13124-000]

Copper Valley Electric Association; Notice of Scoping Meeting and Soliciting Scoping Comments for an Oirginal Application for License

April 23, 2010.

a. Type of Application: Original License Application.

b. Project No.: 13124-000.

c. Applicant: Copper Valley Electric Association.

d. Name of Project: Allison Lake Project.

e. Location: on the south side of Port Valdez, on the shore opposite from the community of Valdez, Alaska, near the Alyeska Marine Terminal and the terminus of the Trans Alaska Pipeline System (TAPS) in Township 9 South, Range 6 West, Seward Meridian, Alaska.

f. Filed Pursuant to: Federal Power Act, 16 U.S.C. 791(a)-825(r).

g. Applicant Contact: Robert A. Wilkinson, CEO, Copper Valley Electric Association, P.O. Box 45, Mile 187 Glenn Highway, Glennallen, Alaska 99588, 907-822-3211, allisonlake@cvea.org.

h. FERC Contact: Gaylord Hoisington, phone at (202) 502-6032; e-mail at gaylord.hoisington@ferc.gov.

i. Deadline for filing scoping comments: July 12, 2010.

All documents (original and eight copies) should be filed with: Kimberly D. Bose, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

j. The proposed project would consist of: (1) A 70-foot high, 17-foot-wide rock-filled embankment dam; (2) a 12,500-acre-foot storage reservoir; (3) 9,700-foot-long, 33-inch-diameter-steel pipeline; (4) a 40-foot-high, 40-foot wide powerhouse; (5) a 4,000 kilowatt horizontal pelton turbine; (6) a 150-foot-long tailrace channel; (7) a switchyard; (8) 2.5-mile-long transmission line; and (9) all appurtenant structures.

k. Scoping Process: Copper Valley Electric Association (Copper Valley) has requested use of the Commission's alternative licensing procedures (ALP). To date, the Commission has not acted upon that request. Under the ALP, Copper Valley will prepare a Preliminary Draft Environmental Assessment (PDEA) and license application for the Allison Lake Project.

Copper Valley expects to file, with the Commission, the PDEA and the license application for the Allison Lake Project by July 30, 2010. Although Copper Valley's intent is to prepare a PDEA, there is the possibility that an Environmental Impact Statement (EIS) will be required. Nevertheless, this meeting will satisfy the scoping requirements, pursuant to the National Environmental Policy Act of 1969, as amended, irrespective of whether an EA or EIS is issued by the Commission.

The purpose of this notice is to inform you of the opportunity to participate in the upcoming scoping meetings identified below, and to solicit your scoping comments.

Scoping Meetings

Copper Valley and the Commission staff will hold two scoping meetings, one in the daytime and one in the evening, to help us identify the scope of issues to be addressed in the PDEA.

The daytime scoping meeting will focus on resource agency concerns, while the evening scoping meeting is primarily for public input. All interested agencies, Indian tribes, individuals, and organizations are invited to attend one or both of the meetings, and to assist staff in identifying the environmental issues that should be analyzed in the PDEA. The times and locations of these meetings are as follows:

Daytime Meeting

Monday, May 10, 2010, 10 a.m.-Noon, Carr Gottstein Academic Building, Veco Board Room, 4101 University Drive, Anchorage, AK 99508.

Note: Parking is available to the east of the building.

Evening Meeting

Wednesday, May 12, 2010, 7 p.m. (Alaska time zone), Valdez Civic Center, 110 Clifton, Valdez, AK.

To help focus discussions, Scoping Document 1 (SD1) was mailed on April 23, 2010, outlining the subject areas to be addressed in the license to the parties on the mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Based on all written comments received, a Scoping Document 2 (SD2) may be issued. SD2 will include a revised list of issues, based on the scoping meetings.

Objectives

At the scoping meetings, staff will: (1) Summarize the environmental issues tentatively identified for analysis in the NEPA analysis; (2) solicit from the meeting participants all available information, especially quantifiable data, on the resources at issue; (3) encourage statements from experts and the public on issues that should be analyzed in the PDEA, including viewpoints in opposition to, or in support of, staff's preliminary views; (4) determine the resource issues to be addressed in the PDEA; and (5) identify those issues that require a detailed analysis, as well as those issues that do not require a detailed analysis.

Procedures

The meetings will be recorded by a stenographer and will become part of the formal record of the Commission proceeding for the project.

Individuals, organizations, agencies, and Indian tribes with environmental expertise and concerns are encouraged to attend the meetings and to assist Copper Valley and Commission staff in defining and clarifying the issues to be addressed in the PDEA.

Kimberly D. Bose,
Secretary.

[FR Doc. 2010-10061 Filed 4-29-10; 8:45 am]

BILLING CODE 6717-01-P